DEPARTMENT OF COMMERCE

National Oceanic and Atmospheric Administration

Agency Information Collection Activities; Submission to the Office of Management and Budget (OMB) for Review and Approval; Comment Request; Economic Valuation of Natural and Nature-Based Infrastructure

AGENCY: National Oceanic & Atmospheric Administration (NOAA), Department of Commerce.

ACTION: Notice of Information Collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before November 21, 2022.

ADDRESSES: Interested persons are invited to submit written comments to Adrienne Thomas, NOAA PRA Officer, at NOAA.PRA@noaa.gov. Please reference OMB Control Number 0648-0788 in the subject line of your comments. Do not submit Confidential Business Information or otherwise sensitive or protected information.

FOR FURTHER INFORMATION CONTACT: Requests for additional information or specific questions related to collection activities should be directed to Sarah Gonyo, NOS/NCCOS, 1305 East West Highway, Bldg. SSMC4, Rm 9320, Silver Spring, MD, 20910, sarah.gonyo@noaa.gov, 240-621-1999.

SUPPLEMENTARY INFORMATION:

I. Abstract

Pursuant to H.R. 3684 (Infrastructure Investment and Jobs Act) and the Coastal Zone Management Act (CZMA), this request is for a revision and extension of an information collection. This information collection will focus on a different geographical location (Gulf of Mexico (GoM)) and include focus groups, which will help guide any revisions necessary to the survey instrument. The title of the collection is being changed to reflect this revision.

The National Ocean Service (NOS) proposes to collect data on the opinions, values, and attitudes of GoM residents relative to natural and nature-based infrastructure for the purpose of shoreline stabilization or habitat restoration. Respondents (age 18 years and older) will be randomly sampled from households in GoM coastal counties. This information will be used by NOAA, state and local decision-makers, and others to assess the value, benefits, and perceived efficacy of federal investments in habitat restoration and/or climate adaptation projects that use natural or nature-based infrastructure. NOAA has a vested interest in the potential use of natural and nature-based infrastructure, from many perspectives, including as it relates to the resilience, well-being, and sustainability of coastal communities.

II. Method of Collection

Information will be collected with a combination of mail recruitment with push-to-web and mail-back survey instrument.

III. Data

OMB Control Number: 0648-0788.

Form Number(s): None.

Type of Review: Regular [Revision and extension of a current information collection].

Affected Public: Individuals or households.

Estimated Number of Respondents: Focus groups: 48; Questionnaire: 6,500.

Estimated Time per Response: Focus groups: 1 hour; Questionnaire: 20 minutes.

Estimated Total Annual Burden Hours: 2,215.

Estimated Total Annual Cost to Public: $0.

Respondent's Obligation: Voluntary.

Legal Authority: Integrated Coastal and Ocean Observation System Act (33 U.S.C. 3601 et seq.).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2022-20481 Filed 9-21-22; 8:45 am]

BILLING CODE 3510-JE-P